DEPARTMENT OF THE INTERIOR

Bureau of Land Management

[CO-930-1430-ET; COC-0102703, COC-28242]

Public Land Order No. 7502; Partial Revocation of Secretarial Order Dated May 23, 1946 and Public Land Order No. 3500; Colorado

AGENCY: Bureau of Land Management, Interior.

ACTION: Public Land Order.

SUMMARY: This order partially revokes a public land order and a Secretarial Order insofar as they affect 276.57 acres of public land withdrawn for the Bureau of Reclamation's Fryingpan-Arkansas and the Arkansas Valley Reclamation Projects. The Bureau of Reclamation has determined that the lands are no longer needed for project purposes. This revocation will allow for disposal of these lands by exchange. The lands have been and will remain open to mineral leasing. The lands continue to be segregated by a proposed land exchange.

EFFECTIVE DATE: November 23, 2001.

FOR FURTHER INFORMATION CONTACT: Doris E. Chelius, BLM Colorado State Office, 2850 Youngfield Street, Lakewood, Colorado 80215-7076, 303-239-3706.

SUPPLEMENTARY INFORMATION: By virtue of the authority vested in the Secretary of the Interior by Section 204 of the Federal Land Policy and Management Act of 1976, 43 U.S.C. 1714 (1994), it is ordered as follows:

1. Secretarial Order dated May 23, 1946 and Public Land Order No. 3500, which withdrew public lands for the Bureau of Reclamation's Arkansas Valley and Fryingpan-Arkansas Reclamation Projects, are hereby revoked insofar as they affect the following described lands:

Sixth Principal Meridian

T. 18 S., R. 69 W.,

sec. 1, lots 7 to 10, inclusive;

sec. 24, S½NW¼ and W½SW¼.

The areas described aggregate 276.57 acres in Fremont County.

2. At 9 a.m. on November 23, 2001, the lands described in paragraph 1 shall be opened to operation of the public land laws generally, subject to valid existing rights, the provisions of existing withdrawals, other segregations of record, and the requirements of applicable law. All valid applications received on or prior to 9 a.m. on November 23, 2001, shall be considered as simultaneously filed at that time. Those received thereafter shall be considered in the order of filing.

3. The lands will remain closed to location and entry under the United States mining laws by an overlapping segregation.

Dated: September 28, 2001.
J. Steven Griles,
Deputy Secretary.

[FR Doc. 01-26580 Filed 10-22-01; 8:45 am]

BILLING CODE 4310-JB-P